DEPARTMENT OF LABOR

Employment and Training Administration

[TA-W-41,399]

BBA Nonwovens Simpsonville Inc., Lewisburg, PA; Notice of Revised Determination on Reconsideration

By letter postmarked August 15, 2002, the Paper, Allied-Industrial, Chemical and Energy International Workers Union, Local PACE 2-1318, requested administrative reconsideration regarding the Department's Negative Determination Regarding Eligibility to Apply for Worker Adjustment Assistance, applicable to the workers of the subject firm.

The initial investigation resulted in a negative determination issued on July 1, 2002, based on the finding that imports of apparel interlinings and disposable diaper components did not contribute importantly to worker separations at the Lewisburg plant. The denial notice was published in the Federal Register on July 18, 2002 (67 FR 47399).

To support the request for reconsideration, the union supplied additional information to supplement that which was gathered during the initial investigation. Upon further review and contact with the company, it was revealed that the company had sold off a major product line of apparel interlinings to a manufacturer with foreign production capacity.

In addition, contact with the major declining domestic customer of this product revealed that they replaced their purchases of apparel interlinings from the subject firm with products from the foreign plant during the relevant period. The imports accounted for a meaningful portion of the subject plant's lost sales and production.

Conclusion

After careful review of the additional facts obtained on reconsideration, I conclude that increased imports of articles like or directly competitive with those produced at BBA Nonwovens Simpsonville Inc., Lewisburg, Pennsylvania, contributed importantly to the declines in sales or production and to the total or partial separation of workers at the subject firm. In accordance with the provisions of the Act, I make the following certification:

“All workers of BBA Nonwovens Simpsonville Inc., Lewisburg, Pennsylvania, who became totally or partially separated from employment on or after March 25, 2001 through two years from the date of this certification, are eligible to apply for adjustment assistance under section 223 of the Trade Act of 1974.”

Signed in Washington, DC this 19th day of February 2003.
Edward A. Tomchick,
Director, Division of Trade Adjustment Assistance.

[FR Doc. 03-6405 Filed 3-17-03; 8:45 am]

BILLING CODE 4510-30-P